INTERNATIONAL TRADE COMMISSION

[Investigation Nos. 731-TA-1210-1212 (Review) and 701-TA-454 and 731-TA-1144 (Second Review)]

Welded Stainless Steel Pressure Pipe From China, Malaysia, Thailand, and Vietnam; Determination

On the basis of the record ¹ developed in the subject five-year reviews, the United States International Trade Commission (“Commission”) determines, pursuant to the Tariff Act of 1930 (“the Act”), that revocation of the antidumping and countervailing duty orders on welded stainless steel pressure pipe from China and the antidumping duty orders on welded stainless steel pressure pipe from Malaysia, Thailand, and Vietnam would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on June 3, 2019 (84 FR 25567) and determined on September 6, 2019 that it would conduct expedited reviews (84 FR 55171, October 15, 2019).

The Commission made these determinations pursuant to section 751(c) of the Act (19 U.S.C. 1675(c)). It completed and filed its determinations in these reviews on November 19, 2019. The views of the Commission are contained in USITC Publication 4994 (November 2019), entitled Welded Stainless Steel Pressure Pipe from China, Malaysia, Thailand, and Vietnam: Investigation Nos. 731-TA-1210-1212 (Review) and 701-TA-454 and 731-TA-1144 (Second Review).

By order of the Commission.
Issued: November 19, 2019.
Lisa Barton,
Secretary to the Commission.

[FR Doc. 2019-25442 Filed 11-22-19; 8:45 am]

BILLING CODE 7020-02-P